ENVIRONMENTAL PROTECTION AGENCY

[OPP-2005-0051; FRL-7702-8]

Issuance of an Experimental Use Permit

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: Sharlene R. Matten, Biopesticides and Pollution Prevention Division (7511C), Office of Pesticide Programs, Environmental Protection Agency, 1200 Pennsylvania Ave., NW., Washington, DC 20460-0001; telephone number: (703) 605-0514; e-mail address: matten.sharlene@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

1. Docket. EPA has established an official public docket for this action under docket identification (ID) number OPP-2005-0051. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. EUP

EPA has issued the following EUP:

67979-EUP-5. Issuance. Syngenta Seeds, 3054 Cornwallis Road, Research Triangle Park, NC 27709-2257. This EUP allows the use of 0.14 pounds of the insecticide Vip3A insect control protein as expressed in Events COT 202 and COT 203-derived cotton plants on 467 acres of cotton to evaluate the control of various lepidopteran insect pests. The program is authorized only in the States of Alabama, Arizona, Arkansas, California, Florida, Georgia, Louisiana, Mississippi, North Carolina, South Carolina, Tennessee, and Texas. Two comments were submitted in response to the notice of receipt for this permit application, which published in the Federal Register on July 28, 2004 (69 FR 45051) (FRL-7371-5). One comment from the National Cotton Council supported issuance of the EUP. The other comment by a private citizen objected to issuance of the EUP based on unspecified environmental and human health effects. The Agency understands the commentor's concerns. Pursuant to its authority under the Federal Insecticide, Fungicide, and Rodenticide Act (FIFRA) and under the Federal Food, Drug, and Cosmetic Act (FFDCA), EPA has conducted an assessment of the Vip3A insect control proteins and the genetic material necessary for their production in cotton. EPA has concluded that there is a reasonable certainty that no harm will result from dietary exposure to this protein as expressed in cotton. The Vip3A insect control proteins as expressed in cotton tested under this permit are covered by the temporary tolerance exemption under 40 CFR 180.1247. No adverse effects are anticipated as a result of Vip3A expression in transgenic cotton. The EUP is effective from February 1, 2005 to March 31, 2006.

Authority: 7 U.S.C. 136c.

List of Subjects

Environmental protection, Experimental use permits.

Dated: March 7, 2005.
Janet L. Andersen,
Director, Biopesticides and Pollution Prevention Division, Office of Pesticide Programs.

[FR Doc. 05-4958 Filed 3-15-05; 8:45 am]

BILLING CODE 6560-50-S